DEPARTMENT OF HEALTH AND HUMAN SERVICES

Centers for Disease Control and Prevention

[60Day-03-87]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: 2004 Lesbian/Gay/Bisexual/Transgender (LGBT) Adult Tobacco Survey (ATS)—New—National Center for Chronic Disease Prevention and Health Promotion (NCCDPHP), Centers for Disease Control and Prevention (CDC).

The purpose of this project is to test and pilot a culturally appropriate Adult Tobacco Survey questionnaire for the lesbian/gay/bisexual/transgender (LGBT) population. This questionnaire will expand data and existing knowledge of tobacco use among LGBTs in order to benefit tobacco use and prevention surveillance at a state, local, and/or regional level. The questions will help to narrow existing gaps in knowledge of tobacco use among LGBTs and inform development of LGBT-specific interventions.

Numerous factors suggest that LGBT individuals may be at risk for high smoking prevalence. These factors include economic and social marginalization, homophobia, discrimination, the high prevalence of smoking in historically important LGBT social settings such as bars, and behaviors associated with smoking, such as alcohol and drug abuse. Additionally, since the 1980s, the tobacco industry has targeted the LGBT population. A recent review of the literature estimated smoking rates to range from 25 percent to 50 percent among gays, lesbians, and bisexuals compared to 28 percent nationally for adults overall during comparable periods. No articles addressing tobacco use by transgender individuals were found.

In an effort to better understand the effects of smoking among LGBTs, CDC will utilize a culturally appropriate questionnaire for pilot implementation in the LGBT population. The survey will be conducted with 750 lesbian, 750 gay, 750 bisexual, and 750 transgender individuals, for a total of three-thousand participants. There is no cost to the respondents.

Respondents | Number of respondents | Number of responses/respondent | Avg. burden/response (in hrs.) | Total burden (in hrs.)
Lesbian | 750 | 1 | 45/60 | 562.5
Gay | 750 | 1 | 45/60 | 562.5
Bisexual | 750 | 1 | 45/60 | 562.5
Transgender | 750 | 1 | 45/60 | 562.5
Total |  |  |  | 2,250

Dated: June 30, 2003.
Thomas A. Bartenfeld,
Acting Associate Director for Policy, Planning and Evaluation, Centers for Disease Control and Prevention.

[FR Doc. 03-17012 Filed 7-3-03; 8:45 am]

BILLING CODE 4163-18-P